DEPARTMENT OF ENERGY

Worker Advocacy Advisory Committee Meeting

AGENCY: Department of Energy.

ACTION: Notice of cancellation of open meeting.

This notice announces the cancellation of the April 4-5, 2002, meeting of the Worker Advocacy Advisory Committee published in the Federal Register on March 20, 2002 (67 FR 12980). A meeting will be scheduled after the Physician Panel Rule is published.

Issued in Washington, DC on March 25, 2002.
Rachel M. Samuel,
Deputy Advisory Committee Management Officer.

[FR Doc. 02-7437 Filed 3-27-02; 8:45 am]

BILLING CODE 6450-01-P